DEPARTMENT OF TRANSPORTATION

Federal Highway Administration

Notice of Final Federal Agency Actions on Transportation Project in Nebraska

AGENCY: Federal Highway Administration (FHWA), Department of Transportation (DOT).

ACTION: Notice of limitation on claims for judicial review.

SUMMARY: This notice announces actions taken by the FHWA, on behalf of the Nebraska Department of Transportation, that are final. The action(s) relate to the Lincoln West Beltway Project, located in Lancaster County, Nebraska. The project is a subcomponent of a larger project called the “U.S. 77 Lincoln—South Expressway West and East Bypass of Lincoln, Lancaster County, Nebraska”. Those actions grant licenses, permits, and approvals for the project. This project converts at-grade intersections along US-77 in the City of Lincoln, NE at Pioneers Boulevard and Warlick Boulevard/West Denton Road to full access interchanges. Access to US-77 at the intersections of Old Cheney Road and Yankee Hill Road will be removed. The FHWA's National Environmental Policy Act (NEPA) Record of Decision (ROD) and subsequent NEPA Re-evaluation provide details on the Selected Alternative for the proposed improvements.

DATES: A claim seeking judicial review of the Federal agency actions on the listed highway project will be barred unless the claim is filed on or before June 15, 2026. If the Federal law that authorizes judicial review of a claim provides a time period of less than 150 days for filing such claim, then that shorter time period still applies.

FOR FURTHER INFORMATION CONTACT:

For FHWA: James Simerl, Acting Division Administrator, Federal Highway Administration, 100 Centennial Mall North, Room 220, Lincoln, NE 68508, (402) 742-8460, james.simerl@dot.gov.

For NDOT: Kyle Keller, Project Development Engineer, 1500 Nebraska Parkway, Lincoln, NE 68502-4759, (402) 479-4795, kyle.keller@nebraska.gov.

SUPPLEMENTARY INFORMATION: Notice is hereby given that FHWA has taken final agency actions within the meaning of 23 U.S.C. 139(l)(1) by issuing a NEPA Re-evaluation for the Lincoln West Beltway, US-77 project, located in the City of Lincoln, Lancaster County, Nebraska. The action(s) by FHWA and the laws under which such actions were taken, are described in the ROD and Re-evaluation and the associated agency records. That information is available by contacting FHWA at the addresses provided above.

The purpose of the project is to establish an expressway that would meet the service requirements in the areas south, west, and east of the City of Lincoln. A ROD for the project was signed on January 21, 1976. A Re-evaluation of the project was signed on March 11, 2025.

Information about the ROD, Re-evaluation and associated records are available from FHWA at the addresses provided above or obtained by contacting the individuals listed above. This notice applies to all Federal agency decisions related to the ROD and Re-evaluation as of the issuance date of this notice and all laws under which such actions were taken, including but not limited to:

1. General: National Environmental Policy Act (NEPA) [42 U.S.C. 4321-4347]; Federal-Aid Highway Act [23 U.S.C. 109].

2. Air: Clean Air Act, as amended [42 U.S.C. 7401-7671(q)].

3. Land: Section 6(f) of the Land and Water Conservation Fund Act of 1965 [16 U.S.C. 4601]; Section 4(f) of the Department of Transportation Act of 1966 [49 U.S.C. 303].

4. Wildlife: Endangered Species Act [16 U.S.C. 1531-1544 and 1536]. Fish and Wildlife Coordination Act [16 U.S.C. 661-667(d)]. Migratory Bird Treaty Act [16 U.S.C. 703-712]. Bald and Golden Eagle Protection Act [16 U.S.C. 668-668c]. Magnuson-Stevens Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)];

6. Social and Economic: Civil Rights Act of 1964 [42 U.S.C. 2000d et seq.]; Farmland Protection Policy Act [7 U.S.C. 4201-4209].

7. Wetlands and Water Resources: Clean Water Act (Section 319, Section 401, Section 402, Section 404) [33 U.S.C. 1251-1377]. Safe Drinking Water Act [42 U.S.C. 300(f) et seq.].

8. Executive Orders: Executive Order 11990 Protection of Wetlands; Executive Order 11988 Floodplain Management; Executive Order 11593 Protection and Enhancement of Cultural Resources; Executive Order 13007 Indian Sacred Sites; Executive Order 13287 Preserve America; Executive Order 13175 Consultation and Coordination with Indian Tribal Governments; Executive Order 11514 Protection and Enhancement of Environmental Quality; Executive Order 13112 Invasive Species; Executive Order 13045 Protection of Children From Environmental Health Risks and Safety Risks.

Authority: 23 U.S.C. 139(l)(1).

James Simerl,
FHWA Acting Division Administrator, Lincoln, NE.

[FR Doc. 2026-00813 Filed 1-15-26; 8:45 am]

BILLING CODE 4910-RY-P